LIBRARY OF CONGRESS

Copyright Office

37 CFR Part 210

[Docket No. 2020-12]

Music Modernization Act Transition Period Transfer and Reporting of Royalties to the Mechanical Licensing Collective; Correction

AGENCY: U.S. Copyright Office, Library of Congress.

ACTION: Final rule; correction.

SUMMARY: The U.S. Copyright Office is correcting a final rule that appeared in the Federal Register on January 11, 2021. The rule addressed digital music providers' obligations to transfer and report accrued royalties for the use of unmatched musical works (or shares thereof) to the mechanical licensing collective for purposes of eligibility for the Music Modernization Act's limitation on liability for prior unlicensed uses.

DATES: Effective February 10, 2021.

FOR FURTHER INFORMATION CONTACT: John R. Riley, Assistant General Counsel, by email at jril@copyright.gov, or Jason E. Sloan, Assistant General Counsel, by email at jslo@copyright.gov. Each can be contacted by telephone by calling (202) 707-8350.

SUPPLEMENTARY INFORMATION: In FR Doc. 2020-29190 appearing on page 2176 in the Federal Register of Monday, January 11, 2021, the following correction is made:

§ 210.10 [Corrected]

1. On page 2203, in the third column, in part 210, in amendment 3, the instruction “Amend § 210.10 by revising paragraphs (b) introductory text, (b)(1), (b)(2) introductory text, and (b)(3)(i) and adding paragraphs (c) through (m) to read as follows:” is corrected to read “Amend § 210.10 by revising paragraphs (b) introductory text, (b)(1), (b)(2) introductory text, and (b)(3)(i) and adding paragraphs (c) through (o) to read as follows:”

Dated: January 25, 2021.
Shira Perlmutter,
Register of Copyrights and Director of the U.S. Copyright Office.
Approved by:
Carla D. Hayden,
Librarian of Congress.

[FR Doc. 2021-02049 Filed 1-29-21; 8:45 am]

BILLING CODE 1410-30-P